DEPARTMENT OF COMMERCE

International Trade Administration

A-583-080

Carbon Steel Plate from Taiwan: Notice of Rescission of Antidumping Duty Administrative Review

AGENCY: Import Administration, International Trade Administration, Department of Commerce.

SUMMARY: In response to a request from Nucor Corporation, a U.S. domestic producer of carbon steel plate, the Department of Commerce (the Department) initiated an administrative review of the antidumping duty order on carbon steel plate from Taiwan. See Notice of Initiation of Antidumping and Countervailing Duty Administrative Reviews, 70 FR 42028 (July 21, 2005) (Initiation Notice). The period of review (POR) covered June 1, 2004 through May 31, 2005. We are now rescinding this review because there is no evidence the respondent had any reviewable U.S. transactions during the POR.

EFFECTIVE DATE: December 2, 2005.

FOR FURTHER INFORMATION CONTACT: Maryanne Burke or Robert James, AD/CVD Operations, Office 7, Import Administration, International Trade Administration, U.S. Department of Commerce, 14th Street and Constitution Avenue, NW, Room 7868, Washington, DC 20230; telephone (202) 482-5604 and (202) 482-0649, respectively.

SUPPLEMENTARY INFORMATION:

Background

The Department published an antidumping finding on carbon steel plate from Taiwan on June 13, 1979. See Antidumping; Certain Carbon Steel Plate from Taiwan, 44 FR 33877 (June 13, 1979). On June 1, 2005 the Department published a notice of “Opportunity to Request Administrative Review” of the antidumping duty order for the period of June 1, 2004 through May 31, 2005. See Notice of Opportunity to Request Administrative Review of Antidumping or Countervailing Duty Order, Finding or Suspended Investigation, 70 FR 31422 (June 1, 2005). In accordance with 19 CFR 351.213(b)(1), on June 30, 2005 petitioner Nucor Corporation requested a review of this finding with respect to the manufacturer and/or exporter China Steel Corporation (China Steel). In response to this request, the Department published the initiation of the antidumping duty administrative review on carbon steel plate from Taiwan on July 21, 2005. See Initiation Notice.

On August 10, 2005, the Department issued an antidumping questionnaire to China Steel to which we did not receive a response. We subsequently issued a supplemental questionnaire on September 2, 2005 and China Steel submitted a brief response on September 16, 2005. On October 18, 2005 the Department requested further clarification and issued a second supplemental questionnaire and China Steel filed its response on October 28, 2005.

China Steel notified the Department that neither it nor any of its affiliates had any reviewable U.S. transactions during the POR. The Department obtained documentation from U.S. Customs and Border Protection (CBP) for specific entries to the United States of merchandise subject to this order. See November 1, 2005 memorandum from Maryanne Burke to the file entitled, “2004/2005 Administrative Review of Carbon Steel Plate from Taiwan: Release of Customs Documentation.” Also, CBP Headquarters issued a no shipments inquiry for carbon steel plate from Taiwan from China Steel. See CBP message no. 5258209 dated September 15, 2005 available at http://addcvd.cbp.gov/. No information from these inquiries indicated that China Steel had reviewable U.S. transactions during the POR. Accordingly, we notified the petitioners that we intended to rescind this administrative review with respect to the respondent and they did not object.

Rescission of the Administrative Review

Pursuant to 19 CFR 351.213(d)(3), we are rescinding this review of the antidumping finding on carbon steel plate from Taiwan for the period June 1, 2004 through May 31, 2005. The Department will issue appropriate assessment instructions to CBP within 15 days of publication of this notice.

This notice serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

This notice is published in accordance with section 751(a) of the Tariff Act of 1930, as amended, and 19 CFR 351.213(d)(4).

Dated: November 28, 2005.
Stephen J. Claeys,
Deputy Assistant Secretary for Import Administration.

[FR Doc. 05-23563 Filed 12-1-05; 8:45 am]

BILLING CODE 3510-DS-S